DEPARTMENT OF LABOR

Employment and Training Administration

[TA-W-52,306]

York International Corporation, Grantley Plant, York, PA; Notice of Termination of Investigation

Pursuant to Section 221 of the Trade Act of 1974, as amended, an investigation was initiated on July 15, 2003, in response to a worker petition filed on behalf of workers at York International Corporation, Grantley Plant, York, Pennsylvania.

The company official has requested that this petition be withdrawn. Consequently, further investigation would serve no purpose and the investigation is terminated.

Signed at Washington, DC, this 12th day of August, 2003.
Linda G. Poole,
Certifying Officer, Division of Trade Adjustment Assistance.

[FR Doc. 03-22274 Filed 8-29-03; 8:45 am]

BILLING CODE 4510-30-P